DEPARTMENT OF ENERGY

Federal Energy Regulatory Commission

[Docket No. EL05-119-000]

Devon Power LLC, Complainant v. ISO New England, Inc., Respondent; Notice of Complaint

May 26, 2005.

Take notice that on May 24, 2005, Devon Power LLC (Devon) filed a Complaint against ISO New England, Inc. (ISO-NE). Devon requests that the Commission issue an order (1) finding that ISO-NE failed to properly compensate Devon for the services it provided to ISO-NE from August 1, 2004 through September 30, 2004, pursuant to a Reliability Must Run Agreement (RMR Agreement) between Devon and ISO-NE; (2) directing ISO-NE to pay $802,000 to Devon to appropriately compensate it for the reliability services Devon provided under the RMR Agreement; and (3) providing any other relief the Commission deems appropriate.

Devon states that copies of the filing were served on ISO-NE and other potentially affected entities, as required by Rule 206(c) of the Commission's Rules of Practice and Procedure (18 CFR 385.206(c)(2004).

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper, using the FERC Online link at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filing in the above proceeding is accessible in the Commission's eLibrary system. It is also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Comment Date: 5 p.m. on June 15, 2005.

Linda Mitry,
Deputy Secretary.

[FR Doc. E5-2816 Filed 6-2-05; 8:45 am]

BILLING CODE 6717-01-P